DEPARTMENT OF COMMERCE

National Oceanic and Atmospheric Administration

Marine Mammals and Endangered Species

AGENCY: National Marine Fisheries Service (NMFS), National Oceanic and Atmospheric Administration (NOAA), Commerce.

ACTION: Notice; issuance of permits and permit amendments.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore (Permit No. 21419 and Permit No. 21251), Courtney Smith (Permit No. 21321), and Shasta McClenahan (14450-05, 14856-06, 16239-03, 17312-01, 18636-01, and 20556-01); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
14450-05 | 0648-XS35 | NMFS Southeast Fisheries Science Center (Responsible Party: Bonnie Ponwith, Ph.D.), 75 Virginia Beach Drive, Miami, FL 33149 | 82 FR 55804; November 24, 2017 | April 23, 2018.
14856-06 | 0648-XB157 | Bruce R. Mate, Ph.D., Hatfield Marine Science Center, Oregon State University, Newport, OR 97365 | 82 FR 55804; November 24, 2017 | April 23, 2018.
16239-03 | 0648-XC268 | Dan Engelhaupt, Ph.D., 1209 Independence Blvd., Virginia Beach, VA 23455 | 82 FR 55804; November 24, 2017 | April 23, 2018.
17312-03 | 0648-XC268 | Scripps Institution of Oceanography (Responsible Party: John Hildebrand, Ph.D.), University of California, 8635 Discovery Way, La Jolla, CA 92093 | 82 FR 55804; November 24, 2017 | April 23, 2018.
18636-01 | 0648-XE075 | Iain Kerr, D.H.L., Ocean Alliance, 32 Horton Street, Gloucester, MA 01930 | 82 FR 55804; November 24, 2017 | April 23, 2018.
20556-01 | 0648-XF508 | Georgia Department of Natural Resources (Responsible Party: Jonathan Ambrose), 2070 U.S. Highway 278 Southeast, Social Circle, GA 30025 | 82 FR 32328; July 13, 2017 | April 30, 2018.
21251 | 0648-XG039 | Waikiki Aquarium (Responsible Party: Dr. Andrew Rossiter), 2777 Kalakaua Avenue, Honolulu, HI 96815 | 83 FR 7455; February 21, 2018 | April 30, 2018.
21321 | 0648-XG047 | Pacific Whale Foundation (Responsible Party: Stephanie Stack, M.Sc.), 300 Maalaea Road, Suite 211, Wailuku, HI 96793 | 83 FR 8655; February 28, 2018 | April 23, 2018.
21419 | 0648-XG029 | Shannon Atkinson, Ph.D., University of Alaska Fairbanks, 17101 Point Lena Loop Road, Juneau, AK 99801 | 83 FR 7454; February 21, 2018 | April 23, 2018.

In compliance with the National Environmental Policy Act of 1969 (42 U.S.C. 4321 et seq.), a final determination has been made that the activities proposed in Permit Nos. 20556-01, 21251, 21321, and 21419 are categorically excluded from the requirement to prepare an environmental assessment or environmental impact statement.

For Permit Nos. 14450-05, 14856-06, 16239-03, 17312-01, and 18636-01, an environmental assessment (EA) was prepared analyzing the effects of the permitted activities on the human environment in compliance with the National Environmental Policy Act of 1969 (42 U.S.C. 4321 et seq.). Based on the analyses in the EA, NMFS determined that issuance of the permit amendments would not significantly impact the quality of the human environment and that preparation of an environmental impact statement was not required. That determination is documented in a Finding of No Significant Impact (FONSI), signed on April 23, 2018.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: May 7, 2018.
Julia Marie Harrison,
Chief, Permits and Conservation Division, Office of Protected Resources, National Marine Fisheries Service.

[FR Doc. 2018-09959 Filed 5-9-18; 8:45 am]

BILLING CODE 3510-22-P